DEPARTMENT OF THE INTERIOR

Fish and Wildlife Service

Notice of Availability of the Final Comprehensive Conservation Plan for Bon Secour National Wildlife Refuge in Baldwin and Mobile Counties, AL

AGENCY: Fish and Wildlife Service, Interior.

ACTION: Notice of availability.

SUMMARY: The Fish and Wildlife Service announces that a Final Comprehensive Conservation Plan for Bon Secour National Wildlife Refuge is available for distribution. The plan was prepared pursuant to the National Wildlife Refuge System Improvement Act of 1997, and in accordance with the National Environmental Policy Act of 1969, and describes how the refuge will be managed for the next 15 years. The compatibility determinations for wildlife observation, photography, and hiking; swimming and beach use; recreational fishing; environmental education and interpretation; and scientific research are also available within the plan.

ADDRESSES: A copy of the plan may be obtained by writing to Robert Cail, Refuge Manager, Bon Secour National Wildlife Refuge, 12295 State Highway 180, Gulf Shores, Alabama 36542; or by calling 251/540-7720; fax 251/540-7301. The plan may also be accessed and downloaded from the Service's Web site http://southeast.fws.gov/planning/.

SUPPLEMENTARY INFORMATION: Bon Secour National Wildlife Refuge is located on the Gulf coast of Alabama, 8 miles west of the city of Gulf Shores in Baldwin and Mobile Counties. The planning study area was divided into five separate management units along the Fort Morgan Peninsula and Little Dauphin Island. Although the refuge was established in 1980, to date, only 6,978 acres have been acquired within the 12,570-acre acquisition boundary, including the 575 acres leased from the State of Alabama. The Service has management jurisdiction along the shoreline above mean high tide, except on Little Dauphin Island, which contains 560 acres of submerged bottoms. The potential wildlife habitat values of beach/dune, maritime forest, and estuarine habitat provided the impetus to purchase the properties.

Management efforts since 1985 have emphasize acquiring land, securing staff to operate the refuge, and initiating conservation programs that benefit endangered wildlife species. However, Service acquisition of key properties, such as inholdings and beach/dune habitat, may not be realized within the 15-year planning period due to budget constraints and landowner preferences. The five units within the acquisition boundary have a significant “edge,” which contributes to the predation of birds, sea turtles, and beach mice. Edge effect is the tendency of a transitional zone between communities to contain a greater variety of species and more dense populations of species than any surrounding communities.

Implementing the comprehensive conservation plan will enable the refuge to fulfill its critical role in the conservation and management of fish and wildlife resources along coastal Alabama, and to provide quality environmental education and wildlife-dependent recreation opportunities for refuge visitors. The Service analyzed four alternatives for managing the refuge and selected Alternative D to guide management direction over the next 15 years.

Under alternative D, fishing will continue with greater emphasis on the quality of the experience. Education and interpretation will be promoted with regular programs and partnerships with local schools. Wildlife observation and photography opportunities will be expanded, including a kayak trail and observation towers, highlighting refuge management programs and unique wildlife habitats. A user fee and permit system will be implemented to facilitate night fishing at Mobile Point. Depending upon the availability of funds, a visitor center and headquarters office will be constructed, which will include space for interpretation and environmental education. Also based on the availability of funds, a biological technician, outdoor recreation planner, seasonal maintenance worker, and full-time law enforcement officer will be added to accomplish objectives outlined in the plan.

Research studies on the refuge will be fostered and partnerships developed with agencies and universities, providing needed resources and equipment sites, all while meeting the needs of the refuge's wildlife and habitat management programs. Research will also benefit conservation efforts throughout the central Gulf coast to preserve, enhance, restore, and manage coastal barrier island habitat. New surveys on birds, reptiles, and amphibians will be initiated to develop baseline information.

Under this alternative, the refuge will continue to seek acquisition of all lands within the present acquisition boundary. Pristine lands that provide quality habitat and connectivity to existing refuge lands will be priority acquisitions. Equally important acquisition tools to be used include: transfer lands, partnerships with conservation organizations, conservation easements with adjacent landowners, and leases/cooperative agreements with state agencies.

Public comments were requested, considered, and incorporated throughout the planning process. Public outreach included open houses, public meetings, technical workgroups, planning update mailings, and Federal Register notices. During the comment period on the draft document, the Service received a total of 30 comments. All substantive issues raised have been addressed either through revisions of the final comprehensive conservation plan or in responses contained in the appendix dealing with public comments.

Authority: This notice is published under the authority of the National Wildlife Refuge System Improvement Act of 1997, Public Law 105-57.

Dated: August 24, 2005.
Jeffrey M. Fleming,
Acting Regional Director.

[FR Doc. 05-24240 Filed 12-19-05; 8:45 am]

BILLING CODE 4310-55-M